DEPARTMENT OF LABOR

Employment and Training Administration

[TA-W-52,704]

Brindar, Gresham, OR; Notice of Termination of Investigation

Pursuant to section 221 of the Trade Act of 1974, as amended, an investigation was initiated on August 29, 2003, in response to a petition filed by a company official on behalf of workers of Brindar, Gresham, Oregon.

The petitioner has requested that the petition be withdrawn. Consequently, the investigation has been terminated.

Signed at Washington, DC, this 7th day of October, 2003.
Richard Church,
Certifying Officer, Division of Trade Adjustment Assistance.

[FR Doc. 03-29122 Filed 11-20-03; 8:45 am]

BILLING CODE 4510-30-P